LEGAL SERVICES CORPORATION

Sunshine Act; Meeting Notice

DATE AND TIME: The Legal Services Corporation's Board of Directors and its six committees will meet January 25-26, 2013. On Friday, January 25, the first meeting will commence at 3:45 p.m., Central Standard Time (CST), with each meeting thereafter commencing promptly upon adjournment of the immediately preceding meeting. On Saturday, January 26, the first meeting will commence at 8:30 a.m., CST, with each meeting thereafter commencing promptly upon adjournment of the immediately preceding meeting. The exception will be the Finance Committee meeting, which in part will run concurrently with the Audit Committee meeting.

LOCATION: Hyatt French Quarter New Orleans, 800 Iberville Street, New Orleans, Louisiana 70113.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348 (or 2755431953 to access the Finance Committee meeting)

• When connected to the call, please immediately “MUTE” your telephone. Members of the public are asked to keep their telephones muted to eliminate background noises. To avoid disrupting the meeting, please refrain from placing the call on hold if doing so will trigger recorded music or other sound. From time to time, the presiding Chair may solicit comments from the public.

Meeting Schedule
Friday, January 25, 2013 | Time ¹
1. Promotion & Provision for the Delivery of Legal Services Committee | 3:45 p.m.
2. Operations & Regulations Committee
3. Institutional Advancement Committee
Saturday, January 26, 2013
1. Governance & Performance Committee | 8:30 a.m.
2. Audit Committee ²
3. Finance Committee ²
4. Board of Directors

STATUS OF MEETING: Open, except as noted below.

¹ Please note that all times in this notice are in the Central Standard Time.

² The meeting of the Finance Committee will commence prior to the adjournment of and run concurrently in part with the Audit Committee.

Board of Directors—Open, except that, upon a vote of the Board of Directors, a portion of the meeting may be closed to the public to hear briefings by management and LSC's Inspector General, and to consider and act on the General Counsel's report on potential and pending litigation involving LSC.³

³ Any portion of the closed session consisting solely of briefings does not fall within the Sunshine Act's definition of the term “meeting” and, therefore, the requirements of the Sunshine Act do not apply to such portion of the closed session. 5 U.S.C. 552b(a)(2) and (b). See also 45 CFR § 1622.2 & 1622.3.

Institutional Advancement Committee—Open, except that, upon a vote of the Board of Directors, the meeting may be closed to the public to discuss prospective funders for LSC's development activities and prospective funders for implementing the recently-issued Pro Bono Task Force report.

A verbatim written transcript will be made of the closed session of the Board and Institutional Advancement Committee meetings. The transcript of any portions of the closed session falling within the relevant provisions of the Government in the Sunshine Act, 5 U.S.C. § 552b(c)(9) and (10), and the corresponding provisions of the Legal Services Corporation's implementing regulations, will not be available for public inspection. A copy of the General Counsel's Certification that, in his opinion, the closing is authorized by law will be available upon request.

Matters To Be Considered

January 25, 2013

Promotion and Provision for the Delivery of Legal Services Committee

1. Approval of Agenda

2. Approval of minutes of the Committee's meeting of October 1, 2012

3. Discussion of preservation and distribution of Committee presentations

4. Discussion of Committee's evaluations for 2012 and the Committee's goals for 2013

5. Panel presentation and discussion on Succession Planning and Leadership Development for LSC funded programs

Jon Asher, Executive Director, Colorado Legal Services

David Pantos, Executive Director, Legal Aid of Nebraska

Patricia Pap, Executive Director, Management Information Exchange

Rhodia Thomas, Executive Director, MidPenn Legal Services

6. Public comment

7. Consider and act on other business

8. Consider and act on motion to adjourn the meeting

Operations & Regulations Committee

1. Approval of agenda

2. Approval of minutes of the Committee's meeting September 30, 2012

3. Consider and act on rulemaking on enforcement mechanisms

Mark Freedman, Senior Assistant General Counsel

Matthew Glover, Associate Counsel to the Inspector General

Public comment on this rulemaking

4. Consider and act on initiating rulemaking on representation of criminal defendants in tribal courts

Mark Freedman, Senior Assistant General Counsel

Public comment on this request to initiate rulemaking

5. Consider and act on initiating rulemaking on the findings and recommendations of the Pro Bono Task Force with respect to the Private Attorney Involvement requirement

Mark Freedman, Senior Assistant General Counsel

Public comment on this request to initiate rulemaking

6. Discussion of Committee's evaluations for 2012 and the Committee's goals for 2013

7. Public comment

8. Consider and act on other business

9. Consider and act on adjournment of meeting

Institutional Advancement Committee

Open Session

1. Approval of agenda

2. Approval of minutes of the Committee's open session meeting of September 30, 2012

3. Report on the status of recruitment of a Chief Development Officer

4. Discussion of Committee's evaluations for 2012 and the Committee's goals for 2013

5. Discussion of plans for LSC's 40th anniversary celebration

6. Public comment

7. Consider and act on other business

Closed Session

8. Approval of minutes of the Committee's closed session meeting of September 30, 2012

9. Discussion of prospective funders for LSC's development activities

10. Discussion of prospective funders for implementing the Pro Bono Task Force report

11. Consider and act on adjournment of meeting

January 26, 2013

Governance and Performance Review Committee

1. Approval of agenda

2. Approval of minutes of the Committee's meeting of September 30, 2012

3. Staff Reports on

2012 Board and Board Member self-evaluations

2012 Committee evaluations

Staff report on progress in implementing GAO recommendations

4. Report on Public Welfare Foundation grant

Presentation by Jim Sandman

5. Discussion of President's evaluation for 2012

6. Discussion of the Inspector General's evaluation for 2012

7. Consider and act on other business

8. Public comment

9. Consider and act on motion to adjourn meeting

Audit Committee

Open Session

1. Approval of agenda

2. Approval of minutes of the Committee's meeting of September 30, 2012

3. Presentation of the Fiscal Year (FY) 2012 Annual Financial Audit

Ronald “Dutch” Merryman, Assistant Inspector General for Audits

Nancy Davis, WithumSmith+Brown

4. Review of LSC's Form 990 for FY 2012

5. Briefing by Office of Inspector General

Jeffrey Schanz, Inspector General

6. Discussion of Committee's evaluations for 2012 and the Committee's goals for 2013

7. Public comment

8. Consider and act on other business

9. Consider and act on adjournment of meeting

Closed Briefing

10. Communication by Corporate Auditor with those charged with governance under Statement on Auditing Standard 114

Jeffrey Schanz, Inspector General

Ronald “Dutch” Merryman, Assistant Inspector General for Audits

Nancy Davis, WithumSmith+Brown

Finance Committee

1. Approval of agenda

2. Approval of minutes of the Committee's meeting of October 1, 2012

3. Presentation of LSC's Financial Report for FY 2012

4. Consider and act on Revised Temporary Operating Budget for FY 2013, Resolution 2013-0XX

Presentation by David Richardson, Treasurer & Comptroller

5. Presentation of LSC's Financial Report for the first two months of FY 2013

Presentation by David Richardson, Treasurer & Comptroller

6. Report of the Selection of Accounts and Depositories for LSC Funds

Presentation by David Richardson, Treasurer & Comptroller

7. Consider and Act on submission of LSC's FY 2014 budget request

Presentation Carol Bergman, Director, Office of Government Relations & Public Affairs

8. Discussion of Committee's evaluation for 2012 and the Committee's goals for 2013

9. Public comment

10. Consider and act on other business

11. Consider and act on adjournment of meeting

Board of Directors

Open Session

1. Pledge of Allegiance

2. Approval of agenda

3. Approval of minutes of the Board's Open Session telephonic meeting of November 29, 2012

4. Consider and act on nominations for the Chairman of the Board of Directors

5. Consider and act on nominations for the Vice Chairman of the Board of Directors

6. Consider and act on delegation to the Chairman of authority to make committee appointments, including the appointment of committee Chairs and non-director members

7. Chairman's Report

8. Members' Reports

9. President's Report

10. Inspector General's Report

11. Consider and act on the report of the Promotion and Provision for the Delivery of Legal Services Committee

12. Consider and act on the report of the Finance Committee

13. Consider and act on the report of the Audit Committee

14. Consider and act on the report of the Operations and Regulations Committee

15. Consider and act on the report of the Governance and Performance Review Committee

16. Consider and act on the report of the Institutional Advancement Committee

17. Consider and act on Resolution 2013-XXX thanking the Members of the Pro Bono Task Force for their service on the Task Force

18. Consider and act on a request of a corporate officer for permission to accept compensation for outside employment

19. Public comment

20. Consider and act on other business

21. Consider and act on whether to authorize an executive session of the Board to address items listed below, under Closed Session

Closed Session

22. Approval of minutes of the Institutional Advancement Committee Closed Session of September 30, 2012

23. Approval of minutes of the Board's Closed Session of October 2, 2012

24. Management Briefing

25. Inspector General Briefing

26. Consider and act on General Counsel's report on potential and pending litigation involving LSC

27. Consider and act on motion to adjourn meeting

CONTACT PERSON FOR INFORMATION: Atitaya Rok, Staff Attorney, at (202) 295-1628. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Atitaya Rok, at (202) 295-1500 or FR_NOTICE_QUESTIONS@lsc.gov, at least 2 business days in advance of the meeting. If a request is made without advance notice, LSC will make every effort to accommodate the request but cannot guarantee that all requests can be fulfilled.

Dated: January 16, 2013.
Victor M. Fortuno,
Vice President & General Counsel.

[FR Doc. 2013-01211 Filed 1-17-13; 4:15 pm]

BILLING CODE 7050-01-P